DEPARTMENT OF LABOR

Employment and Training Administration

[TA-W-80,174; TA-W-80,174A]

Amended Certification Regarding Eligibility To Apply for Worker Adjustment Assistance and Alternative Trade Adjustment Assistance; Delphi Corporation, Powertrain Division, Including On-Site Leased Workers From Bartech Workforce Management, Auburn Hills, MI; Delphi Corporation, Powertrain Division, Including On-Site Leased Workers From Bartech Workforce Management, Henrietta, NY

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 17, 2011, applicable to workers of Delphi Corporation Powertrain Division, including on-site leased workers from Bartech Workforce Management, Auburn Hills, Michigan (TA-W-80,174) and Delphi Corporation Powertrain Division, including on-site leased workers from Bartech Workforce Management, Henrietta, New York (TA-W-80,174A). The workers are engaged in activities related to design and production of automotive electronics. The notice was published in the Federal Register on September 2, 2011 (76 FR 54795). The notice was amended on November 17, 2009, to show that workers' wages are reported under a separate unemployment insurance (UI) tax account under the name GM Components Holding, LLC. The amended notice was published on December 8, 2009 (74 FR 64713-64714).

At the request of the State agency, the Department reviewed the certification for workers of the subject firm. New information shows that on July 24, 2009, a certification of eligibility to apply for adjustment assistance was issued for all workers of Delphi Rochester Operations, Delphi Powertrain Division, a subsidiary of Delphi Corporation, including on-site leased workers from Bartech, Rochester, New York, separated from employment on or after June 9, 2009, through July 24, 2011. The notice was published in the Federal Register on September 2, 2009 (74 FR 45477).

In order to avoid an overlap in worker group coverage, the Department is amending the May 10, 2010 impact date established for the Henrietta, New York location of the subject firm (TA-W-80,174A) to read July 25, 2011.

The intent of the Department's certification is to include all workers of the subject firm adversely affected by the shift in production of automotive electronics to a foreign country.

The amended notice applicable to TA-W-80,174 is hereby issued as follows:

All workers from Delphi Corporation, Powertrain Division, including on-site leased workers from Bartech Workforce Management, Auburn Hills, Michigan (TA-W-80,174), who became totally or partially separated from employment on or after November 18, 2010, through August 17, 2013, are eligible to apply for adjustment assistance under Section 223 of the Trade Act of 1974, and are also eligible to apply for alternative trade adjustment assistance under Section 246 of the Trade Act of 1974.

AND

All workers from Delphi Corporation, Powertrain Division, including on-site leased workers from Bartech Workforce Management, Henrietta, New York (TA-W-80,174A), who became totally or partially separated from employment on or after July 25, 2011, through August 17, 2013, are eligible to apply for adjustment assistance under Section 223 of the Trade Act of 1974, and are also eligible to apply for alternative trade adjustment assistance under Section 246 of the Trade Act of 1974.

Signed at Washington, DC, this 20th day of September 2011.
Michael W. Jaffe,
Certifying Officer, Office of Trade Adjustment Assistance.

[FR Doc. 2011-25723 Filed 10-4-11; 8:45 am]

BILLING CODE 4510-FN-P